DEPARTMENT OF AGRICULTURE

Forest Service

Notice of Resource Advisory Committee Meeting

AGENCY: Lassen Resource Advisory Committee, Susanville, California, USDA Forest Service.

ACTION: Notice of meetings.

SUMMARY: Pursuant to the authorities in the Federal Advisory Committees Act (Pub. L. 92-463) and under the Secure Rural Schools and Community Self-Determination Act of 2000 (Pub. L. 106-393) the Lassen National Forest's Lassen County Resource Advisory Committee will meet Thursday, March 31, 2005 at the Eagle Lake Community Services District Office, 502-905 Mahogany, in Spalding, California for a business meeting. The meeting is open to the public.

SUPPLEMENTARY INFORMATION: The business meeting on March 31st will begin at 9 a.m., at the Spalding Community Services District Office, 502-905 Mahogany Spalding, CA 96130. There will be a field tour of the Pine Creek Fish Trap project as well as discussions regarding monitoring plans; summer field tours schedules; project funding, payments and monitoring processes; and an update on HR2389. Time will also be set aside for public comments at the beginning of the meeting.

FOR FURTHER INFORMATION CONTACT: Robert Andrews, District Ranger, Designated Federal Officer, at (530) 257-4188; or Public Affairs Officer, Heidi Perry, at (530) 252-6604.

Laurie Tippin,
Forest Supervisor.

[FR Doc. 05-5281 Filed 3-16-05; 8:45 am]

BILLING CODE 3410-11-M